DEPARTMENT OF TRANSPORTATION

Federal Aviation Administration

14 CFR Part 97

[Docket No. 30305; Amdt. No. 3002]

Standard Instrument Approach Procedures; Miscellaneous Amendments

AGENCY: Federal Aviation Administration (FAA), DOT.

ACTION: Final rule.

SUMMARY: This amendment establishes, amends, suspends, or revokes Standard Instrument Approach Procedures (SIAPs) for operations at certain airports. These regulatory actions are needed because of changes occurring in the National Airspace system, such as the commissioning of new navigational facilities, additional of new obstacles, or changes in air traffic requirements. These changes are designed to provide safe and efficient use of the navigable airspace and to promote safe flight operations under instrument flight rules at the effected airports.

DATES: An effective date for each SIAP is specified in the amendatory provisions.

Incorporated by reference-approved by the Director of the Federal Register on December 31, 1980, and reapproved as of January 1, 1982.

ADDRESSES: Availability of matter incorporated by reference in the amendment is as follows:

For Examination—

1. FAA Rules Docket, FAA Headquarters Building, 800 Independence Avenue, SW., Washington, DC 20591;

2. The FAA Regional Office of the region in which affected airport is located; or

3. The Flight Inspection Area Office which originated the SIAP.

For Purchase—

Individual SIAP copies may be obtained from:

1. FAA Public Inquiry Center (APA-200), FAA Headquarters Building, 800 Independence Avenue, SW., Washington, DC 20591; or

2. The FAA Regional Office of the region in which the affected airport is located.

By Subscription Copies of all SIAPs, mailed once every 2 weeks, are for sale by the Superintendent of Documents, US Government Printing Office, Washington, DC 20402.

FOR FURTHER INFORMATION CONTACT: Donald P. Pate, Flight Procedure Standards Branch (AMCAFS-420), Flight Technologies and Programs Division, Flight Standards Service, Federal Aviation Administration, Mike Monroney Aeronautical Center, 6500 South MacArthur Blvd. Oklahoma City, OK 73169 (Mail Address: P.O. Box 25082, Oklahoma City, OK. 73125)

SUPPLEMENTARY INFORMATION: This amendment to part 97 of the Federal Aviation Regulations (14 CFR part 97) establishes, amends, suspends, or revokes Standard Instrument Approach Procedures (SIAPs). The complete regulatory description on each SIAP is contained in the appropriate FAA Form 8260 and the National Flight Data Center (FDC)/Permanent (P) Notices to Airmen (NOTAM) which are incorporated by reference in the amendment under 5 U.S.C. 552(a), 1 CFR part 51, and § 97.20 of the Federal Aviation's Regulations (FAR). Materials incorporated by reference are available for examination or purchase as stated above.

The large number of SIAPs, their complex nature, and the need for a special format make their verbatim publication in the Federal Register expensive and impractical. Further, airmen do not use the regulatory text of the SIAPs, but refer to their graphic depiction of charts printed by publishers of aeronautical materials. Thus, the advantages of incorporation by reference are realized and publication of the complete description of each SIAP contained in FAA form documents is unnecessary. The provisions of this amendment state the affected CFR (and FAR) sections, with the types and effective date of the SIAPs. This amendment also identifies the airport, its location, the procedure identification and the amendment number.

The Rule

This amendment to part 97 of the Federal Aviation Regulations (14 CFR part 97) establishes, amends, suspends, or revokes SIAPs. For safety and timeliness of change considerations, this amendment incorporates only specific changes contained in the content of the following FDC/P NOTAMs for each SIAP. The SIAP information in some previously designed FDC/Temporary (FDC/T) NOTAMs is of such duration as to be permanent. With conversion to FDC/P NOTAMs, the respective FDC/T NOTAMs have been canceled.

The FDC/P NOTAMs for the SIAPs contained in this amendment are based on the criteria contained in the U.S. Standard for Terminal Instrument Procedures (TERPS). In developing these chart changes to SIAPs by FDC/P NOTAMs, the TERPS criteria were applied to only these specific conditions existing at the affected airports. All SIAP amendments in this rule have been previously issued by the FAA in a National Flight Data Center (FDC) Notice to Airmen (NOTAM) as an emergency action of immediate flight safety relating directly to published aeronautical charts. The circumstances which created the need for all these SIAP amendments requires making them effective less than 30 days.

Further, the SIAPs contained in this amendment are based on the criteria contained in the TERPS. Because of the close and immediate relationship between these SIAPs and safety in air commerce, I find that notice and public procedure before adopting these SIAPs are impracticable and contrary to the public interest and, where applicable, that good cause exists for making these SIAPs effective in less than 30 days.

Conclusion

The FAA has determined that this regulation only involves an established body of technical regulations for which frequent and routine amendments are necessary to keep them operationally current. It, therefore—(1) is not a “significant regulatory action” Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Navigation (air).

Issued in Washington, DC on April 12, 2002.
James J. Ballough,
Director, Flight Standards Service.

Adoption of the Amendment

Accordingly, pursuant to the authority delegated to me, part 97 of the Federal Aviation Regulations (14 CFR part 97) is amended by establishing, amending, suspending, or revoking Standard Instrument Approach Procedures, effective at 0901 UTC on the dates specified, as follows:

PART 97—STANDARDS INSTRUMENT APPROACH PROCEDURES

1. The authority citation for part 97 is revised to read as follows:

Authority: 49 U.S.C. 40103, 40113, 40120, 44701; 49 U.S.C. 106(g); and 14 CFR 11.49(b)(2).

§§ 97.23, 97.25, 97.27, 97.29, 97.31, 97.33, 97.35 [Amended]

2. Part 97 is amended to read as follows:

By amending: § 97.23 VOR, VOR/DME, VOR or TACAN, and VOR/DME or TACAN; § 97.25 LOC, LOC/DME, LDA, LDA/DME, SDF, SMF/DME; § 97.27 NDB, NDB/DME; § 97.29 ILS, ILS/DME, ISMLS, MLS/DME, MLS/RNAV; § 97.31 RADAR SIAPs; § 97.33 RNAV SIAPs; and § 97.39 COPTER SIAPs, Identified as follows: ...................EFFECTIVE UPON PUBLICATION

FDC Date | State | City | Airport | FDC No. | Subject
03/05/02 | NE | AINSWORTH | AINSWORTH MUNI | 2/1923 | VOR OR GPS RWY 17, AMDT 2A.
03/07/02 | TX | CORPUS CHRISTI | CORPUS CHRISTI INTL | 2/1982 | LOC RWY 31, AMDT 6.
03/07/02 | TX | CORPUS CHRISTI | CORPUS CHRISTI INTL | 2/1983 | ILS RWY 13, AMDT 26.
03/07/02 | TX | CORPUS CHRISTI | CORPUS CHRISTI INTL | 2/1984 | ILS RWY 35, AMDT 11.
03/07/02 | TX | CORPUS CHRISTI | CORPUS CHRISTI INTL | 2/1985 | GPS RWY 35, ORIG.
03/11/02 | TX | DENTON | DENTON MUNI | 2/2085 | ILS RWY 17, AMDT 6A.
03/11/02 | KS | OLATHE | JOHNSON COUNTY EXECUTIVE | 2/2088 | VOR RWY 36, AMDT 11.
03/11/02 | KS | OLATHE | JOHNSON COUNTY EXECUTIVE | 2/2111 | NDB RWY 18, AMDT 4.
03/11/02 | KS | OLATHE | JOHNSON COUNTY EXECUTIVE | 2/2112 | LOC RWY 18, AMDT 7.
03/11/02 | KS | OLATHE | JOHNSON COUNTY EXECUTIVE | 2/2113 | RNAV (GPS) RWY 18, ORIG.
03/12/02 | TX | BROWNSVILLE | SOUTH PADRE ISLAND INTL | 2/2146 | VOR/DME RNAV OR GPS RWY 17, AMDT 3.
03/13/02 | TN | FAYETTEVILLE | FAYETTEVILLE MUNI | 2/2178 | VOR/DME RWY 2, ORIG-B.
03/14/02 | NE | FAIRMONT | FAIRMONT STATE AIRFIELD | 2/2224 | GPS RWY 35, ORIG.
03/18/02 | LA | LAFAYETTE | LAFAYETTE REGIONAL | 2/2289 | ILS RWY 22L, AMDT 4B.
03/18/02 | LA | LAFAYETTE | LAFAYETTE REGIONAL | 2/2290 | NDB OR GPS RWY 22L, AMDT 4A.
03/21/02 | IA | PELLA | PELLA MUNI | 2/2347 | NDB RWY 34, AMDT 7A.
03/27/02 | FL | SARASOTA (BRADENTON) | SARASOTA/BRADENTON INTL | 2/2510 | VOR OR GPS RWY 22, AMDT 10B.
03/27/02 | FL | SARASOTA (BRADENTON) | SARASOTA/BRADENTON INTL | 2/2511 | VOR OR GPS RWY 14, AMDT 16A.
03/27/02 | FL | SARASOTA (BRADENTON) | SARASOTA/BRADENTON INTL | 2/2512 | VOR OR GPS RWY 32, AMDT 8B.
03/27/02 | FL | SARASOTA (BRADENTON) | SARASOTA/BRADENTON INTL | 2/2513 | NDB RWY 32, AMDT 6B.
03/27/02 | TN | CROSSVILLE | CROSSVILLE MEMORIAL-WHITSON FIELD | 2/2520 | VOR/DME OR GPS-A, AMDT 8.
03/27/02 | TN | CROSSVILLE | CROSSVILLE MEMORIAL-WHITSON FIELD | 2/2521 | ILS RWY 26, AMDT 11C.
03/27/02 | MN | DODGE CENTER | DODGE CENTER | 2/2528 | VOR OR GPS-A, AMDT 3.
03/27/02 | MN | DODGE CENTER | DODGE CENTER | 2/2529 | GPS RWY 34, AMDT 2.
03/28/02 | KY | LONDON | LONDON-CORBIN ARPT-MAGEE FLD | 2/2550 | VOR/DME RNAV RWY 5, AMDT 3B.
03/28/02 | MO | OZARK | AIR PARK SOUTH | 2/2567 | VOR OR GPS RWY 17, AMDT 4.
04/01/02 | NE | COLUMBUS | COLUMBUS MUNI | 2/2654 | GPS RWY 14, ORIG-A.
04/03/02 | MA | BOSTON | GENERAL EDWARD LAWRENCE LOGAN INTL | 2/2699 | GPS RWY 27, ORIG.
04/03/02 | MA | BOSTON | GENERAL EDWARD LAWRENCE LOGAN INTL | 2/2700 | VOR/DME RWY 27, AMDT 2.
04/03/02 | GA | DONALSONVILLE | DONALSONVILLE MUNI | 2/2713 | VOR/DME OR GPS-A, AMDT 2A.
04/04/02 | NY | ALBANY | ALBANY INTL | 2/2737 | COPTER ILS RWY 1, ORIG.
04/04/02 | NY | ALBANY | ALBANY INTL | 2/2738 | ILS RWY 1, AMDT 9.
04/04/02 | NC | ERWIN | HARNETT COUNTY | 2/2740 | VOR/DME RWY 5, AMDT 2.
04/04/02 | NY | ROCHESTER | GREATER ROCHESTER INTL | 2/2746 | ILS RWY 4 (CAT I, II), AMDT 17.
04/04/02 | NY | ROCHESTER | GREATER ROCHESTER INTL | 2/2747 | ILS RWY 22, AMDT 5.
04/04/02 | NY | ROCHESTER | GREATER ROCHESTER INTL | 2/2748 | ILS RWY 28, AMDT 28.
04/04/02 | NY | ROCHESTER | GREATER ROCHESTER INTL | 2/2749 | VOR/DME OR GPS RWY 4, AMDT 1A.
04/04/02 | NY | ROCHESTER | GREATER ROCHESTER INTL | 2/2750 | VOR RWY 4, AMDT 9.
04/04/02 | NY | ROCHESTER | GREATER ROCHESTER INTL | 2/2751 | NDB OR GPS RWY 28, AMDT 20B.
04/04/02 | NY | ROCHESTER | GREATER ROCHESTER INTL | 2/2752 | RNAV (GPS) RWY 22, ORIG-A.
04/04/02 | NY | ROCHESTER | GREATER ROCHESTER INTL | 2/2753 | GPS RWY 10, ORIG.
04/05/02 | HI | LIHUE | LIHUE | 2/2772 | VOR/DME OR TACAN OR GPS RWY 21, AMDT 3A.
04/05/02 | LA | LAKE CHARLES | LAKE CHARLES REGIONAL | 2/2786 | VOR-A, AMDT 13.
04/05/02 | LA | SULPHUR | SOUTHLAND FIELD | 2/2787 | VOR/DME-A, AMDT 1.
04/05/02 | LA | SULPHUR | SOUTHLAND FIELD | 2/2788 | NDB RWY 15, AMDT 1B.
04/05/02 | LA | SULPHUR | SOUTHLAND FIELD | 2/2789 | LOC RWY 15, AMDT 1B.
04/08/02 | FL | BROOKSVILLE | HERNANDO COUNTY | 2/2825 | ILS RWY 9, AMDT 2.
04/08/02 | TX | MIDLAND | MIDLAND INTL | 2/2839 | VOR/DME RNAV RWY 16R, AMDT 3.
04/10/02 | OK | OKLAHOMA CITY | WILL ROGERS WORLD | 2/2910 | NDB RWY 35R, AMDT 5B.
04/10/02 | OK | OKLAHOMA CITY | WILL ROGERS WORLD | 2/2917 | ILS RWY 35 (CAT I, II), AMDT 8C.
04/10/02 | OK | OKLAHOMA CITY | WILL ROGERS WORLD | 2/2919 | RNAV (GPS) RWY 35R, ORIG.
04/11/02 | OK | OKLAHOMA CITY | WILL ROGERS WORLD | 2/2921 | LOC BC RWY 35L, AMDT 10C.

[FR Doc. 02-9850 Filed 4-22-02; 8:45 am]

BILLING CODE 4910-13-M